DEPARTMENT OF THE TREASURY

Alcohol and Tobacco Tax and Trade Bureau

27 CFR Part 9

[Notice No. 34]

RIN 1513-AA64

Proposed Fort Ross-Seaview Viticultural Area (2003R-191T)

AGENCY: Alcohol and Tobacco Tax and Trade Bureau, Treasury.

ACTION: Notice of proposed rulemaking.

SUMMARY: The Alcohol and Tobacco Tax and Trade Bureau proposes to establish the 27,500-acre Fort Ross-Seaview viticultural area in western Sonoma County, California. We designate viticultural areas to allow vintners to better describe the origin of their wines and to allow consumers to better identify wines they may purchase. We invite comments on this proposed addition to our regulations.

DATES: We must receive written comments on or before May 9, 2005.

ADDRESSES: You may send comments to any of the following addresses:

• Chief, Regulations and Procedures Division, Alcohol and Tobacco Tax and Trade Bureau, Attn: Notice No. 34, P.O. Box 14412, Washington, DC 20044-4412.

• 202-927-8525 (facsimile).

• nprm@ttb.gov (e-mail).

• http://www.ttb.gov/alcohol/rules/index.htm. An online comment form is posted with this notice on our Web site.

• http://www.regulations.gov (Federal e-rulemaking portal; follow instructions for submitting comments).

You may view copies of this notice, the petition, the appropriate maps, and any comments we receive about this notice by appointment at the TTB Library, 1310 G Street, NW., Washington, DC 20220. To make an appointment, call 202-927-2400. You may also access copies of the notice and comments online at http://www.ttb.gov/alcohol/rules/index.htm.

See the Public Participation section of this notice for specific instructions and requirements for submitting comments, and for information on how to request a public hearing.

FOR FURTHER INFORMATION CONTACT: N. A. Sutton, Regulations and Procedures Division, Alcohol and Tobacco Tax and Trade Bureau, 925 Lakeville St., No. 158, Petaluma, California 94952; telephone 415-271-1254.

SUPPLEMENTARY INFORMATION:

Background on Viticultural Areas

TTB Authority

Section 105(e) of the Federal Alcohol Administration Act (the FAA Act, 27 U.S.C. 201 et seq.) requires that alcohol beverage labels provide the consumer with adequate information regarding a product's identity and prohibits the use of misleading information on those labels. The FAA Act also authorizes the Secretary of the Treasury to issue regulations to carry out its provisions. The Alcohol and Tobacco Tax and Trade Bureau (TTB) administers these regulations.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, elevation, physical features, and soils, that distinguish the proposed viticultural area from surrounding areas;

• A description of the specific boundary of the proposed viticultural area, based on features found on United States Geological Survey (USGS) maps; and

• A copy of the appropriate USGS map(s) with the proposed viticultural area's boundary prominently marked.

Fort Ross-Seaview Petition

Patrick Shabram, on his own behalf and on behalf of David Hirsch of Hirsch Vineyards, submitted a petition to establish the “Fort Ross-Seaview” American viticultural area in western Sonoma County, California. The proposed Fort Ross-Seaview viticultural area is within the existing North Coast (27 CFR 9.30) and Sonoma Coast (27 CFR 9.116) viticultural areas. The area is close to the Pacific Ocean about 65 miles north-northwest of San Francisco. The petitioner states that the proposed area currently has 18 commercial vineyards on 506 acres.

Name Evidence

Russian fur trappers established Fort Ross in 1812 on a bluff overlooking the Pacific Ocean, just west of the boundary of the proposed Fort Ross-Seaview viticultural area. The fort served as Russia's southern-most outpost in the Pacific Northwest until it was abandoned in 1841. The site of the fort has been a California State historical park since 1906, and, today, the reconstructed fort is open to the public. Seaview is a small, unincorporated community and real estate development located along the Pacific Coast Highway (State Route 1), a short distance northwest of the Fort Ross historical park. Much of the Seaview community is within the proposed viticultural area.

United States Geological Survey (USGS) and California State Automobile Association maps note the Fort Ross and Seaview names. The 1978 Fort Ross USGS quadrangle map covers a substantial portion of the proposed viticultural area and shows Fort Ross Road winding through the southern portion of the proposed area. The map also shows Seaview Road and Seaview Cemetery within the proposed area. The October 2000 California State Automobile Association Mendocino and Sonoma Coast map identifies Fort Ross and shows Fort Ross and Seaview Roads.

Local winegrowers, the petitioner explains, commonly refer to the area as “Fort Ross-Seaview” to better define its remote location. According to Daniel Schoenfeld, a resident of the area since 1972 and a grape grower for 22 years, the Fort Ross-Seaview name is used to identify the proposed area and eliminate possible confusion with other geographic names. He also notes an increase in the use of the Fort Ross-Seaview name in the past several years. For example, Charles L. Sullivan's 2001 history of western Sonoma County viticulture, “A Miraculous Intersection,” uses the term “Fort Ross-Seaview district” to describe the land in and near the proposed viticultural area. Mr. Schoenfeld further explains that, historically and in modern times, all three names, “Fort Ross,” “Seaview,” and “Fort Ross-Seaview,” have served to identify the area.

Boundary Evidence

The petition notes that viticulture within the proposed Fort Ross-Seaview viticultural area dates to 1817 when Captain Leontii Andreianovich Hagemeister brought Peruvian grape cuttings to Fort Ross. The petition states that modern viticulture began in the proposed Fort Ross-Seaview area in 1973 when Michael Bohan planted 2 acres of grapes 3 miles east of Fort Ross, between Seaview Road and Creighton Ridge. In 1974, he planted another 15 acres, and in 1976 he started selling his grape harvest to wineries in Sonoma and Santa Cruz Counties, California. David Hirsch states in an April 15, 2003, letter that he planted a vineyard in 1980 between the 1,300- and 1,600-foot elevations in the Fort Ross-Seaview area. As of spring 2003, the petition notes that 18 commercial vineyards covering 506 acres exist within the proposed viticultural area.

The petitioner states that the boundary of the proposed Fort Ross-Seaview viticultural area incorporates the higher elevations of the hills and mountains located along the Pacific coast near Fort Ross and Seaview in western Sonoma County. The 920-foot elevation line defines much of the proposed area's boundary, the petitioner explains, since it marks the separation between the higher, sunnier elevations of the proposed area and the surrounding lower, foggy elevations. According to the petitioner, the lack of coastal marine fog at the higher elevations within the proposed Fort Ross-Seaview viticultural area gives it a unique microclimate.

David Hirsch notes in an April 2003 letter that, due to the lack of coastal fog above the 920-foot contour, the proposed viticultural area receives more hours of solar radiation than the surrounding lower elevations, where grapes fail to grow. Hirsch states, “[d]uring the summer, fog usually covers the Sonoma Coast during the morning and burns off about noon. This marine fog layer seldom rises above 900 feet which explains why there are no vineyards below this elevation in the proposed area.” The petitioner adds that the Pacific Ocean's moderating temperatures reduce the risk of nighttime freeze and frost within the proposed viticultural area.

Growing Conditions

Topography

The proposed Fort Ross-Seaview viticultural area is composed of steep, mountainous terrain that includes canyons, narrow valleys, ridges, and 800- to 1,800-foot peaks, as shown on the USGS maps of the area. Elevations within the proposed area generally run between 920 and 1,800 feet. Light-duty and unimproved roads and jeep trails meander through the area, and creeks and ponds are scattered within it as well. The petitioner explains that vineyards within the proposed area are generally located on rounded ridges with summits that extend above 1,200 feet.

The USGS maps provided by the petitioner show the western boundary of the proposed Fort Ross-Seaview viticultural area to be located between 0.5 mile and 2.5 miles from the Pacific coastline and mostly at or above the 920-foot elevation line. The maps also show that the San Andreas Rift Zone runs generally parallel to the proposed western boundary line, between the boundary and the Pacific coastline.

Soils

A large variety of soils exist within the proposed Fort Ross-Seaview viticultural area, according to the petitioner. No predominant soil type exists, the petitioner explains, and diverse soil series are common to the area, including Yorkville, Boomer, Sobrante, and Laughlin. The Hugo Series soils are abundant in the proposed Fort Ross-Seaview viticultural area and are common in the mountain ranges of Sonoma County and in Mendocino County to the north, according to the petitioner. These soils, derived from sandstone and shale parent material, as noted on pages 44 and 45 of the 1990 Soil Survey of Sonoma County, California, are well-drained, very gravelly loams.

The petitioner emphasizes that the majority of soils are derived from metamorphic rock, which is altered by heat, pressure, shearing, or infusion. These metamorphic soils are common in the proposed area, especially east of the San Andreas Rift Zone. M.E. Huffman and C.F. Armstrong documented these soils on California Department of Conservation Division of Mines and Geology maps, which were reprinted in 2000.

Climate

As noted above in the Boundary Evidence discussion, the petitioner states that the proposed Fort Ross-Seaview viticultural area has a unique microclimate due to the lack of marine fog within its boundary. The proposed area, which is generally above 900 feet in elevation, receives more sun and is warmer than the surrounding land below 900 feet. The surrounding, lower elevation land is cooler and has a shorter growing season than the proposed area due to the prevalence of marine fog below the 900-foot elevation line.

Robert Sisson, former County Director and Farm Advisor for Sonoma County, studied the coastal fog and its effects on agriculture for more than three decades according to Carol Ann Lawson in her 1976 University of California-Davis M.A. thesis, “Guidelines for Assessing the Viticultural Potential of Sonoma County: An Analysis of the Physical Environment.” According to Lawson and the petitioner, Sisson understood the climatic diversity of the lower elevation, foggy coastal areas that surround some of the higher, sunnier elevations. Sisson's work substantiates the warmer climate classification for the high elevations within the proposed Fort Ross-Seaview viticultural area, according to Lawson and the petitioner.

Lawson's 1976 map “Lines of Heaviest and Average Maximum Fog Intrusion for Sonoma County” places the proposed Fort Ross-Seaview viticultural area in the heaviest fog intrusion area, which spans the entire coast of Sonoma County. While this map's heavy fog line does not detail the higher elevations and the contrasting warmer and sunnier microclimates, Sisson's climatic data is depicted on the “Climate Types of Sonoma County” map (Vassen, 1986), which documents that the proposed viticultural area is in the “Coastal Cool” area. According to the petitioner, this region grows some grape varietals, in contrast to the surrounding lower, cooler and less sunny “Marine” climate areas that cannot sustain viticulture.

The north California ocean water, rarely above 60 degrees Fahrenheit, as the petitioner notes, creates a fogbank from mid-spring to fall. This fog moves inland through lower-elevation mountain gaps and valleys. The fog cools temperatures and reduces sunshine in the early morning and late afternoon at elevations of 900 feet or less, according to the petitioner. Also, the marine-influenced fog rarely rises above the 900-foot elevation line in this Pacific coastal region. Conversely, the proposed viticultural area, primarily between the 920- and 1,800-foot elevation lines, has more daily sun, warmer temperatures, and less fog during the growing season than the surrounding, lower areas.

The established Sonoma Coast and Russian River Valley viticultural areas, unlike the proposed Fort Ross-Seaview viticultural area, generally have marine fog, which, the petitioner notes, creates a cool, less sunny climate within those areas. Although the proposed Fort Ross-Seaview viticultural area is within the much larger Sonoma Coast viticultural area and not far from the Russian River Valley viticultural area, the petitioner documents that it has a warmer microclimate despite its high elevation.

The petitioner provides a 1995 comparison of temperatures between Fort Ross State Historical Park at the 112-foot elevation just west of the proposed boundary, and Campmeeting Ridge at the 1,220-foot elevation inside the proposed area's boundary. The comparison shows that the higher elevation ridge within the proposed Fort Ross-Seaview area has warmer temperatures from May through October. Campmeeting Ridge has both warmer daily high temperatures May through October and warmer daily low temperatures in June, and in August through October when compared to the lower elevations of the State park. This comparison, based on National Climatic Data Center information, shows significant growing season temperature variations between the lower and higher elevations.

Boundary Description

See the narrative boundary description of the petitioned-for viticultural area in the proposed regulatory text published at the end of this notice.

Maps

The petitioner provided the required maps, and we list them below in the proposed regulatory text.

Impact on Current Wine Labels

Part 4 of the TTB regulations prohibits any label reference on a wine that indicates or implies an origin other than the wine's true place of origin. If we establish this proposed viticultural area, its name, “Fort Ross-Seaview,” will be recognized as a name of viticultural significance, as will its abbreviated form, “Ft. Ross-Seaview.”

In addition, with the establishment of the Fort Ross-Seaview viticultural area, the name “Fort Ross,” or its abbreviated form, “Ft. Ross,” standing alone will be considered a term of viticultural significance because consumers and vintners could reasonably attribute the quality, reputation, or other characteristic of wine made from grapes grown in the proposed Fort Ross-Seaview viticultural area to the name Fort Ross itself. We note in this regard that searches of the Geographic Names Information System maintained by the U.S. Geological Survey and the Internet reveal that the names “Fort Ross” and “Ft. Ross” appear to apply only to the region of Sonoma County, California, where the proposed Fort Ross-Seaview viticultural area is located. Similar searches show that the name “Seaview” standing alone is used for a number of places across the United States. We therefore do not believe that “Seaview” standing alone would have viticultural significance. Also see 27 CFR 4.39(i)(3), which provides that a name has viticultural significance when determined by a TTB officer. Therefore, the proposed part 9 regulatory text set forth in this document specifies that “Fort Ross-Seaview,” “Ft. Ross-Seaview,” “Fort Ross,” and “Ft. Ross” as terms of viticultural significance for purposes of part 4 of the TTB regulations.

If this proposed text is adopted as a final rule, wine bottlers using “Fort Ross-Seaview,” “Ft. Ross-Seaview,” “Fort Ross,” or “Ft. Ross” in a brand name, including a trademark, or in another label reference as to the origin of the wine, will have to ensure that the product is eligible to use one of those names as an appellation of origin.

For a wine to be eligible to use as an appellation of origin a viticultural area name or other term specified as being viticulturally significant in part 9 of the TTB regulations, at least 85 percent of the grapes used to make the wine must have been grown within the area represented by that name or other term, and the wine must meet the other conditions listed in 27 CFR 4.25(e)(3). If the wine is not eligible to use as an appellation of origin a viticultural area name or other viticulturally significant term that appears in the brand name, then the label is not in compliance and the bottler must change the brand name and obtain approval of a new label. Similarly, if the viticultural area name or other viticulturally significant term appears in another reference on the label in a misleading manner, the bottler would have to obtain approval of a new label. Accordingly, if a new label or a previously approved label uses the name “Fort Ross-Seaview,” Ft. Ross-Seaview,” “Fort Ross,” or “Ft. Ross” for a wine that does not meet the 85 percent standard, the new label will not be approved, and the previously approved label will be subject to revocation, upon the effective date of the approval of the Fort Ross-Seaview viticultural area.

Different rules apply if a wine has a brand name containing a viticultural area name that was used as a brand name on a label approved before July 7, 1986. See 27 CFR 4.39(i)(2) for details.

Public Participation

Comments Invited

We invite comments from interested members of the public on whether we should establish the proposed viticultural area. We are also interested in receiving comments on the sufficiency and accuracy of the name, climatic, boundary and other required information submitted in support of the petition. In addition, we are interested in receiving comments on our proposal to also identify “Ft. Ross-Seaview,” “Fort Ross,” and “Ft. Ross,” as terms of viticultural significance. While we do not believe that “Seaview” standing alone would have viticultural significance, we also seek comments on this point. Please provide any available specific information in support of your comments.

Because of the potential impact of the establishment of the proposed Fort Ross-Seaview viticultural area on brand labels that include the words “Fort Ross-Seaview,” “Ft. Ross-Seaview,” “Fort Ross,” or “Ft. Ross” as discussed above under Impact on Current Wine Labels, we are particularly interested in comments regarding whether there will be a conflict between the proposed area name and currently used brand names. If a commenter believes that a conflict will arise, the comment should describe the nature of that conflict, including any anticipated negative economic impact that approval of the proposed viticultural area will have on an existing viticultural enterprise. We are also interested in receiving suggestions for ways to avoid conflicts, for example by adopting a modified or different name for the viticultural area.

Submitting Comments

Please submit your comments by the closing date shown above in this notice. Your comments must include this notice number and your name and mailing address. Your comments must be legible and written in language acceptable for public disclosure. We do not acknowledge receipt of comments, and we consider all comments as originals. You may submit comments in one of five ways:

• Mail: You may send written comments to TTB at the address listed in the ADDRESSES section.

• Facsimile: You may submit comments by facsimile transmission to 202-927-8525. Faxed comments must—

(1) Be on 8.5- by 11-inch paper;

(2) Contain a legible, written signature; and

(3) Be no more than five pages long. This limitation assures electronic access to our equipment. We will not accept faxed comments that exceed five pages.

• E-mail: You may e-mail comments to nprm@ttb.gov. Comments transmitted by electronic mail must—

(1) Contain your e-mail address;

(2) Reference this notice number on the subject line; and

(3) Be legible when printed on 8.5- by 11-inch paper.

• Online form: We provide a comment form with the online copy of this notice on our Web site at http://www.ttb.gov/alcohol/rules/index.htm. Select the “Send comments via e-mail” link under this notice number.

• Federal e-rulemaking portal: To submit comments to us via the Federal e-rulemaking portal, visit http://www.regulations.gov and follow the instructions for submitting comments.

You may also write to the Administrator before the comment closing date to ask for a public hearing. The Administrator reserves the right to determine, in light of all circumstances, whether to hold a public hearing.

Confidentiality

All submitted material is part of the public record and subject to disclosure. Do not enclose any material in your comments that you consider confidential or inappropriate for public disclosure.

Public Disclosure

You may view copies of this notice, the petition, the appropriate maps, and any comments we receive by appointment at the TTB Library at 1310 G Street, NW., Washington, DC 20220. You may also obtain copies at 20 cents per 8.5- x 11-inch page. Contact our librarian at the above address or by telephone at 202-927-2400 to schedule an appointment or to request copies of comments.

For your convenience, we will post this notice and any comments we receive on this proposal on the TTB Web site. We may omit voluminous attachments or material that we consider unsuitable for posting. In all cases, the full comment will be available in the TTB Library. To access the online copies of this notice and the posted comments, visit http://www.ttb.gov/alcohol/rules/index.htm. Select the “View Comments” link under this notice number to view the posted comments.

Regulatory Flexibility Act

We certify that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866, 58 FR 51735. Therefore, it requires no regulatory assessment.

Drafting Information

N.A. Sutton of the Regulations and Procedures Division drafted this notice.

List of Subjects in 27 CFR Part 9

Wine.

Proposed Regulatory Amendment

For the reasons discussed in the preamble, we propose to amend title 27, chapter 1, part 9, Code of Federal Regulations, as follows:

PART 9—AMERICAN VITICULTURAL AREAS

1. The authority citation for part 9 continues to read as follows:

Authority: 27 U.S.C. 205.

2. Amend subpart C by adding § 9.__ to read as follows:

Subpart C—Approved American Viticultural Areas

§ 9.__ Fort Ross-Seaview.

(a) Name. The name of the viticultural area described in this section is “Fort Ross-Seaview”. For purposes of part 4 of this chapter, “Fort Ross-Seaview”, “Ft. Ross-Seaview”, “Fort Ross”, and “Ft. Ross” are terms of viticultural significance.

(b) Approved Maps. The five United States Geological Survey (USGS) 1:24,000 scale topographic maps used to determine the boundary of the Fort Ross-Seaview viticultural area are titled—

(1) Arched Rock, California—Sonoma Co., 1977 edition;

(2) Fort Ross, California—Sonoma Co., 1978 edition;

(3) Plantation, California—Sonoma Co., 1977 edition;

(4) Annapolis, California—Sonoma Co., 1977 edition; and

(5) Tombs Creek, California—Sonoma Co., 1978 edition.

(c) Boundary. The Fort Ross-Seaview viticultural area is located in Sonoma County, California. The area's boundary is defined as follows:

(1) The beginning point is on the Arched Rock map at the intersection of the 920-foot elevation line and Meyers Grade Road, T8N, R12W. From the beginning point, the boundary line proceeds northwest on Meyers Grade Road about 4.3 miles to the road's intersection with Seaview and Fort Ross Roads, T8N, R12W (Fort Ross Quadrangle); then

(2) Continues northwest on Seaview Road about 6.4 miles to its intersection with Kruse Ranch and Hauser Bridge Roads in the southeast corner of section 28, T9N, R13W (Plantation Quadrangle); then

(3) Continues west on Kruse Ranch Road about 0.2 mile to its intersection with the 920-foot elevation line, T9N, R13W (Plantation Quadrangle); then

(4) Proceeds northerly then easterly along the 920-foot elevation line about 2.2 miles to its intersection with Hauser Bridge Road, section 27, T9N, R13W (Plantation Quadrangle); then

(5) Proceeds east on Hauser Bridge Road about 1.5 miles to its intersection with the 920-foot elevation line, section 23, T9N, R13W (Plantation Quadrangle); then

(6) Proceeds northwesterly then easterly along the 920-foot elevation line about 7.8 miles to its intersection with an unnamed, unimproved road that forks to the south from Tin Barn Road, section 8, T9N, R13W (Annapolis Quadrangle); then

(7) Proceeds east then north along the unnamed, unimproved road to its intersection with Tin Barn Road, section 8, T9N, R13W (Annapolis Quadrangle); then

(8) Proceeds east in a straight line about 1.55 miles to the line's intersection with Haupt Creek, section 10, T9N, R13W (Annapolis Quadrangle); then

(9) Follows Haupt Creek southeasterly about 1.2 miles to its junction with the western boundary of section 11, T9N, R13W (Annapolis Quadrangle); then

(10) Proceeds straight north along the western boundary of section 11 about 0.9 mile to the northwest corner of section 11 (near Buck Spring), T9N, R13W (Annapolis Quadrangle); then

(11) Proceeds 1.1 miles straight east along the northern boundary of section 11 and then section 12 to the section line's intersection with an unnamed, unimproved road along Skyline Ridge, section 12, T9N, R13W (Annapolis Quadrangle);

(12) Follows the unnamed, unimproved road southeast about 1.3 miles to the road's intersection with the 1,200-foot elevation line, section 13, T9N, R13W (Tombs Creek Quadrangle); then

(13) Proceeds southeasterly along the 1,200-foot elevation line about 0.6 mile its intersection with Allen Creek, section 18, T9N, R12W (Tombs Creek Quadrangle); then

(14) Follows Allen Creek north about 0.2 mile to its intersection with the 920-foot elevation line, section 18, T9N, R12W (Tombs Creek Quadrangle); then

(15) Proceeds easterly and then southeasterly along the meandering 920-foot elevation line to its intersection with Jim Creek, south of a 1,200-foot plateau named The Island, section 21, T9N, R12W (Fort Ross Quadrangle); then

(16) Follows Jim Creek southeast about 0.7 mile to its intersection with the northern boundary of section 27, T9N, R12W (Fort Ross Quadrangle); then

(17) Proceeds along the northern boundary of section 27, T9N, R12W, to the northeast corner of that section (Fort Ross Quadrangle); then

(18) Proceeds south along the eastern boundaries of sections 27 and 34, T9N, R12W, and continues south along the eastern boundaries of sections 3, 10, 15, and 22, T8N, R12W, to the intersection of the eastern boundary of section 22 and Fort Ross Road (Fort Ross Quadrangle); then

(19) Proceeds east a short distance on Fort Ross Road to the road's intersection with the Middle Branch of Russian Gulch Creek, and then follows the creek south for about 1.2 miles to the creek's intersection with the 920-foot elevation line, east-southeast of the Black Mountain Conservation Camp, section 26, T8N, R12W (Fort Ross Quadrangle); then

(20) Proceeds southerly along the meandering 920-foot elevation line about 8.1 miles, passing between the Fort Ross and Arched Rock maps as the 920-foot elevation line meanders north then south around the West Branch of Russian Gulch, and returns to the beginning point at Meyers Grade Road, T8N, R12W (Arched Rock Quadrangle).

Dated: February 20, 2005.
John J. Manfreda,
Administrator.

[FR Doc. 05-4390 Filed 3-7-05; 8:45 am]

BILLING CODE 4810-31-P